DEPARTMENT OF ENERGY

Federal Energy Regulatory Commission

[Project No. 3603-018]

City of Aspen; Notice of Intent To Prepare an Environmental Assessment

On September 25, 2024, as supplemented on May 20, 2025, City of Aspen filed an application Non-capacity Amendment of License for the Ruedi Hydroelectric Project No. 3603. The project is located at the Ruedi Dam and reservoir of the U.S. Department of Interior's Bureau of Reclamation on the Fryingpan River in Pitkin and Eagle counties, Colorado.

The licensee proposes to build a 22 by 28-foot powerhouse, add an additional 110 feet of new 30-inch penstock, install a second turbine and generator unit with the capacity of 1.2 Megawatt, construct a new 48 by 48-inch, 60-foot concrete tailrace, add a 24-inch diameter bypass line within the powerhouse, and replace a transformer and modernize the electrical system. The licensee states that all the modifications are within the existing project boundary.

On June 11, 2025, the Commission issued a public notice for the proposed amendment. On July 9, 2025, the Colorado Parks and Wildlife Department of Natural Resources filed comments on the proposal.

This notice identifies Commission staff's intention to prepare an environmental assessment (EA) under the National Environmental Policy Act (42 U.S.C. 4321 et seq) for the project.¹ Commission staff plans to issue an EA by August 5, 2026. Revisions to the schedule may be made as appropriate. The EA will be issued for a 30-day comment period. All comments filed on the EA will be reviewed by staff and considered in the Commission's final decision on the proceeding.

¹ The unique identification number for documents relating to this environmental review is EAXX-019-20-000-1753700984.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Maryam Akhavan at (202) 502-6110 or Maryam.Akhavan@ferc.gov.

Dated: July 29, 2025.
Carlos D. Clay,
Deputy Secretary.

[FR Doc. 2025-14613 Filed 7-31-25; 8:45 am]

BILLING CODE 6717-01-P